DEPARTMENT OF COMMERCE

Census Bureau

Agency Information Collection Activities; Submission to the Office of Management and Budget (OMB) for Review and Approval; Comment Request; Manufacturers' Unfilled Orders Survey

AGENCY: Census Bureau, Commerce.

ACTION: Notice of Information Collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed extension of the Manufacturers' Unfilled Orders Survey, prior to the submission of the information collection request (ICR) to OMB for approval.

DATES: To ensure consideration, comments regarding this proposed information collection must be received on or before April 19, 2021.

ADDRESSES: Interested persons are invited to submit written comments by email to Thomas.J.Smith@census.gov. Please reference the Manufacturers' Unfilled Orders Survey in the subject line of your comments. You may also submit comments, identified by Docket Number USBC-2021-0005, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Carol Aristone, Assistant Division Chief, Manufacturing, Corporate Profits, and Business Dynamics, 301-763-7062, carol.ann.aristone@census.gov.

SUPPLEMENTARY INFORMATION:

I. Abstract

The data collected in the Manufacturers' Unfilled Orders (M3UFO) Survey will be used to benchmark the new and unfilled orders information published in the monthly Manufacturers' Shipments, Inventories, and Orders (M3) Survey. The M3 Survey collects monthly data on the value of shipments, inventories, and new and unfilled orders from manufacturing companies. The orders, as well as the shipments and inventory data, are valuable tools for analysts of business cycle conditions. The data are used by the Bureau of Economic Analysis, the Council of Economic Advisers, the Federal Reserve Board, the Conference Board, as well as businesses, trade associations, and the media.

The monthly M3 Survey estimates are based on a panel of approximately 5,000 reporting units that represent approximately 3,100 companies and provide an indication of month-to-month change for the Manufacturing Sector. These reporting units may be divisions of diversified large companies, large homogenous companies, or single-unit manufacturers. The M3 estimates are periodically benchmarked to comprehensive data on the manufacturing sector from the Annual Survey of Manufactures (ASM), the Economic Census (shipments and inventories) and the M3UFO Survey, which is the subject of this notice. To obtain more accurate M3 estimates of unfilled orders, which are also used in deriving M3 estimates of new orders, we conduct the M3UFO Survey annually to be used as the source for benchmarking M3 unfilled orders data.

Additionally, the M3UFO data are used to determine which North American Industry Classification System (NAICS) industries continue to maintain unfilled orders; this is done in order to minimize burden on businesses by only requesting unfilled orders as part of the monthly M3 Survey for industries that still maintain unfilled orders.

Unfilled orders data are not currently collected in the ASM or the Economic Census. Research is currently being conducted on the feasibility of adding M3UFO questions to the ASM for Survey Year 2021 at the establishment levels. A combination of phone and in-person cognitive interviews with up to 40 respondents, over two rounds will begin in October 2020 and will likely conclude by March 2021.

There are no changes to the MA-3000 form, which is used to conduct the M3UFO survey.

II. Method of Collection

The Census Bureau will collect information by internet and telephone follow-up. All respondents receive an initial letter with their authentication code for registration and submission by internet. Companies are asked to respond to the survey within 30 days of receipt. Letters encouraging participation are mailed to companies that have not responded by the designated time. Telephone follow-up and email reminders are conducted to obtain response from delinquent companies.

III. Data

OMB Control Number: 0607-0561.

Form Number(s): MA-3000.

Type of Review: Regular submission, Request for an Extension, without Change, of a Currently Approved Collection.

Affected Public: Business or other for-profit organizations; Not-for-profit institutions.

Estimated Number of Respondents: 6,000.

Estimated Time per Response: .50 hour.

Estimated Total Annual Burden Hours: 3,000.

Estimated Total Annual Cost to Public: $0. (This is not the cost of respondents' time, but the indirect costs respondents may incur for such things as purchases of specialized software or hardware needed to report, or expenditures for accounting or records maintenance services required specifically by the collection.)

Respondent's Obligation: Mandatory.

Legal Authority: Title 13 U.S.C. Section 131 and 182.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-03177 Filed 2-16-21; 8:45 am]

BILLING CODE 3510-07-P